ENVIRONMENTAL PROTECTION AGENCY

40 CFR Part 86

[FRL-6523-7]

Amendments to the Test Procedures for Heavy-Duty Engines, and Light-Duty Vehicles and Trucks and Amendments to the Emission Standard Provisions for Gaseous Fueled Vehicles and Engines

AGENCY: Environmental Protection Agency (EPA).

ACTION: Final rule.

SUMMARY: On September 5, 1997 EPA promulgated a direct final rulemaking that amended several sections of the heavy-duty engine test procedure regulations. EPA also published a notice of proposed rulemaking proposing the same amendments. EPA noted that if adverse comments were received regarding any provisions, EPA would withdraw those provisions and comments would be addressed in a later final rule based on the proposed rule. Due to adverse comments that were received regarding three provisions, EPA issued a final rule on May 4, 1998 withdrawing those three provisions and indicated that they would be addressed in a separate action. Today, EPA is finalizing those three provisions with amendments, after taking into consideration comments received during the comment period and further discussions with heavy-duty engine and light-duty vehicle manufacturers.

EFFECTIVE DATE: March 20, 2000.

ADDRESSES: Materials relevant to this rulemaking are contained in Docket No. A-96-07, and are available for public inspection and photocopying between 8 a.m. and 5:30 p.m. Monday through Friday. EPA may charge a reasonable fee for copying docket materials.

FOR FURTHER INFORMATION CONTACT: Chuck Moulis, U.S. EPA, Engine Programs and Compliance Division, 2000 Traverwood Dr, Ann Arbor, MI 48105. Telephone 734-214-4826.

SUPPLEMENTARY INFORMATION:

Table of Contents

I. Regulatory Revisions

II. Administrative Designation and Regulatory Analysis

III. Regulatory Flexibility

IV. Unfunded Mandates

V. Paperwork Reduction Act

VI. Submission to Congress and the General Accounting Office

VII. Federalism

VIII. Consultation and Coordination With Indian Tribal Governments

IX. Protection of Children

X. National Technology Transfer and Advancement Act

XI. Copies of Rulemaking Documents

I. Regulatory Revisions

On September 5, 1997, EPA published a direct final rule (62 FR 47114) and accompanying notice of proposed rule (62 FR 46937) making amendments to the test procedures for heavy-duty engines and light duty vehicles and trucks. Although EPA believed that the action was non-controversial, adverse comments were received from the Engine Manufacturers Association (EMA) and from the American Automobile Manufacturers Association (AAMA). As a result of receiving the adverse comments, EPA published a final rule (63 FR 24446) on May 4, 1998 that withdrew the three provisions on which adverse comments were received. After taking into consideration EMA and AAMA's comments and also discussing the issues and options, today's action addresses the three provisions. The paragraphs below describe the comments received for each issue, followed by EPA's response.

a. Cycle Verification at Idle Conditions

Both of the comments received by EPA referred to changes made to § 86.1333-90. In § 86.1333-90 EPA provided a new requirement for cycle verification at idle conditions. The new requirement stated that for idle segments that are seven seconds or longer, the average feedback torque must fall within ±10 ft-lb of the Curb Idle Transmission Torque (CITT). Both EMA and AAMA commented that current dynamometer systems utilized might not be capable of controlling torque to this specification and thus the time period might have to be lengthened or modifications made to dynamometer control systems. Both EMA and AAMA recommended to change the idle segment specification from seven to ten seconds. According to EMA and AAMA, such change would not impact emissions and would allow manufacturers to comply with the CITT requirements without having to make extensive modifications to engine dynamometers control systems.

EPA agrees that making modifications to engine dynamometer systems to meet the proposed CITT requirements would be not only burdensome but also very costly. Furthermore, EPA agrees that increasing the idle segment length specification from seven to ten seconds will not impact emissions. Thus, EPA agrees with EMA and AAMA's recommendation and the final rule will apply the CITT requirement to segments of ten seconds or longer.

b. Critical Flow Venturi

In the September 5, 1997 final rule (62 FR 47114) EPA revised sections 86.119-90, 86.1319-84 and 86.1319-90 to require manufacturers to verify that the critical flow venturi is achieving critical flow when using a CFV-CVS sampling system during the emissions test. Both EMA and AAMA commented that, even though they agree with the technical merits of such requirement, more lead time would be needed to make the software and hardware changes necessary. Thus EMA and AAMA recommended that, in order to provide sufficient time for the implementation of this new requirement, that EPA provides an 18 month lead time.

EPA recognizes that this new requirement will require software changes to current testing facilities and that more lead time would be needed to ensure that all the manufacturer's testing facilities comply at the same time. Thus, EPA will not require that this provision be met until August 20, 2001 to allow manufacturers to make the software and hardware changes needed for compliance. EPA is not finalizing the change to § 86.1319-84 because this section is not applicable to future model years.

c. Light-duty Diesel Cetane Number Specifications

On August 21, 1990 (55 FR 34120), EPA promulgated a final rule that established new requirements related to the quality of diesel fuel. As part of that rule EPA changed the cetane number specification to 40-48 and established a cetane index specification of 40-48. In the 1994 Gaseous Fuels Rule (59 FR 48472), modifications to the section specifying certification fuel parameters for light-duty vehicles and trucks resulted in inadvertent changes to the cetane number specifications from 40-48 to 42-50. In the September 5, 1997 notice, EPA proposed to correct the light-duty diesel fuel cetane specifications contained in section 86.113-94. In its comments, AAMA expressed concern that proposed correction would not provide sufficient lead time for manufacturers to comply. In addition, they stated that since diesel hydrocarbon emissions are sensitive to cetane levels, changing the cetane level of the test fuel could cause in-use compliance issues in the future. EMA and AAMA recommended EPA to keep the current 42-50 cetane specification for light-duty certification fuel.

EPA continues to believe that the current cetane number specification of 42-50 is not correct since it does not include fuels with cetane numbers/indices in the range of 40 to 42. Such fuels represent a significant portion of in-use fuels, and should be included as potential test fuels. EPA believes that it is necessary to change the specifications to include this lower range. However, EPA has analyzed the most recently available data for in-use fuels and has determined that fuels with cetane numbers/indices in the range of 48 to 50 are also representative of in-use fuels. As a result, EPA is finalizing a broad specification that includes both fuels with cetane numbers/indices in the range of 40 to 42 and fuels with cetane numbers/indices in the range of 48 to 50. EPA is applying this broad specification to both light-duty and heavy-duty fuels.

II. Administrative Designation and Regulatory Analysis

Under Executive Order 12866, the Agency must determine whether this regulatory action is “significant and therefore subject to Office of Management and Budget (OMB) review and the requirements of the Executive Order. The Order defines “significant” regulatory action as one that is likely to result in a rule that may:

(1) have an annual effect on the economy of $100 million or more or adversely affect in a material way the economy, a sector of the economy, productivity, competition, jobs, the environment, public health or safety, or State, local or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

Pursuant to the terms of Executive Order 12866, EPA has determined that this action is not a “significant” regulatory action within the meaning of the Executive Order an is therefore not subject to OMB review.

III. Regulatory Flexibility

EPA has determined that it is not necessary to prepare a regulatory flexibility analysis in connection with this final rule. In support of its proposed rule entitled Control of Emissions of Air Pollution from Highway Heavy-Duty Engines (61 FR 33421, June 27, 1996), EPA characterized the heavy-duty engine manufacturing industry in Chapter 3 of its Regulatory Impact Analysis (RIA). Based on that characterization, EPA has determined that this action will not have a significant impact on a substantial number of small entities.

IV. Unfunded Mandates

Under section 202 of the Unfunded Mandates Reform Act of 1995 (“Unfunded Mandates Act”), signed into law on March 22, 1995, EPA must prepare a written statement to accompany any rule where the estimated costs to State, local, or tribal governments, or to the private sector will be $100 million or more in any one year. Under section 205, EPA must select the most cost-effective and least burdensome alternative that achieves the objective of the rule and that is consistent with statutory requirements. Section 203 requires EPA to establish a plan for informing and advising any small governments that may be significantly and uniquely impacted by the rule. EPA has determined that the costs to State, local, or tribal governments, or the private sector, from this rule will be less than $100 million.

V. Paperwork Reduction Act

The technical amendments promulgated by this action do not create or change the information collection burden under the provisions of the Paperwork Reduction Act, 44 U.S.C. 3501 et seq. The Office of Management and Budget (OMB) has previously approved the information collection requirements already contained in all the Part 86 sections amended by this action and has assigned OMB control numbers 2060-0104 and 2060-0064.

VI. Submission to Congress and the General Accounting Office

The Congressional Review Act, 5 U.S.C. 801 et seq., as added by the Small Business Regulatory Enforcement Fairness Act of 1996, generally provides that before a rule may take effect, the agency promulgating the rule must submit a report which includes a copy of the rule, to each House of Congress and to the Comptroller General of the United States. EPA will submit a report containing this rule and other required information to the U.S. Senate, the U.S. House of Representatives and the Comptroller General of the General Accounting Office prior to publication of this rule in the Federal Register. This rule is not a “major rule” as defined by 5 U.S.C. 804(2).

VII. Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Under Section 6 of Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law, unless the Agency consults with State and local officials early in the process of developing the proposed regulation.

This final rule does not have federalism implications. It will not have substantial direct effects on the States, on the relationship between the national government and the States, or on the distribution of power and responsibilities among the various levels of government, as specified in Executive Order 13132. This rule only revises the emissions testing requirements that are part of EPA's existing regulation of new motor vehicles and new motor vehicle engines and only affects the manufacturers of such vehicles and engines. Thus, the requirements of section 6 of the Executive Order do not apply to this rule.

VIII. Consultation and Coordination With Indian Tribal Governments

Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments. Accordingly, the requirements of section 3(b) of Executive Order 13084 do not apply to this rule.

IX. Protection of Children

Executive Order 13045, entitled “Protection of Children from Environmental Health Risks and Safety Risks” (62FR19885, April 23, 1997) applies to any rule that: (1) is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

EPA interprets Executive Order 13045 as applying only to those regulatory actions that are based on health or safety risks, such that the analysis required under section 5-501 of the Order has the potential to influence the regulation. This rule is not subject to Executive Order 13045 because it does not establish an environmental standard intended to mitigate health or safety risks.

X. National Technology Transfer and Advancement Act

Section 12(d) of the National Technology Transfer and Advancement Act of 1995 (“NTTAA”), Public Law. 104-113, section 12(d) (15 U.S.C. 272 note) directs EPA to use voluntary consensus standards in its regulatory activities unless doing so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

EPA has continued to incorporate ASTM test methods in this rule. EPA is not aware of any voluntary consensus standards which are inconsistent with the regulations promulgated in this rule.

XI. Copies of Rulemaking Documents

Electronic copies of the preamble and the regulatory text of this rule are available via the Internet on the Office of Mobile Sources (OMS) Home Page (http://www.epa.gov/oms). This service is free of charge, except for any cost you already incur for Internet connectivity. The official Federal Register version is made available on the day of publication on the primary Web site (http://www.epa.gov/docs/fedrgstr/EPA-AIR/).

Please note that due to differences between the software used to develop the documents and the software into which the documents may be downloaded, changes in format, page length, etc., may occur.

List of Subjects in 40 CFR Part 86

Environmental protection, Administrative practice and procedure, Confidential business information, Labeling, Motor vehicle pollution, Reporting and recordkeeping requirements.

Dated: January 10, 2000.
Carol M Browner,
Administrator.

For the reasons set forth in the preamble, part 86 of chapter I of title 40 of the Code of Federal Regulations is amended as follows:

PART 86—CONTROL OF EMISSIONS FROM NEW AND IN—USE HIGHWAY VEHICLES AND ENGINES

1. The authority citation for part 86 continues to read as follows:

Authority: 42 U.S.C. 7401-7671q.

Subpart B—[Amended]

2. Section 86.113-94 is amended by revising the table in paragraph (b)(2) to read as follows:

§ 86.113-94 Fuel specifications.

* * * * *

(b) * * *

(2) * * *

Item |  | ASTM test method No. | Type 2-D
Cetane number |  | D 613 | 40-50
Cetane index |  | D 976 | 40-50
Distillation range:
IBP | °F | D 86 | 340-400
| (°C) |  | (171.1-204.4)
10 pct. point | °F | D 86 | 400-460
| (°C) |  | (204.4-237.8)
50 pct. point | °F | D 86 | 470-540
| (°C) |  | (243.3-282.2)
90 pct. point | °F | D 86 | 560-630
| (°C) |  | (293.3-332.2)
EP | °F | D 86 | 610-690
| (°C) |  | (321.1-365.6)
Gravity | °API | D 287 | 32-37
Total sulfur | pct. | D 2622 | 0.03-0.05
Hydrocarbon composition:
Aromatics, minimum | pct. | D 1319 | 27
Paraffins, Naphthenes, Olefins |  | D 1319 | ¹
Flashpoint, min. | °F | D 93 | 130
| (°C) |  | (54.4)
Viscosity | centistokes | D 445 | 2.0-3.2
[¹] Remainder.

* * * * *

3. Section 86.119-90 is amended by revising paragraph (b)(3) and adding paragraph (b)(8) to read as follows:

§ 86.119-90 CVS calibration.

* * * * *

(b) * * *

(3) Measurements necessary for flow calibration are as follows:

Calibration Data Measurements
Parameter | Symbol | Units | Tolerances
Barometric pressure (corrected) | Pb | Inches Hg (kPa) | ±.01 in Hg (±.034 kPa)
Air temperature, flowmeter | ETI | °F (°C) | ±.25°F (±.14°C)
Pressure depression upstream of LFE | EPI | Inches H2O (kPa) | ±.05 in H2O (±.012 kPa)
Pressure drop across LFE matrix | EDP | Inches H2O (kPa) | ±.005 in H2O (±.001 kPa)
Air flow | Qs | Ft³/min. (m³/min,) | ±.5 pct
CFV inlet depression | PPI | Inches fluid (kPa) | ±.13 in fluid (±.055 kPa)
CFV outlet pressure | PPO | Inches Hg (kPa) | ±0.05 in. Hg (±0.17 kPa)¹
Temperature at venturi inlet | Tv | °F (°C) | ±0.5°F (±0.28°C)
Specific gravity of manometer fluid (1.75 oil) | Sp. Gr |  |
¹ Requirement begins August 20, 2001.

* * * * *

(8) Calculation of a parameter for monitoring sonic flow in the CFV during exhaust emissions tests:

(i) Option 1. (A) CFV pressure ratio. Based upon the calibration data selected to meet the criteria for paragraphs (d)(7) (iv) and (v) of this section, in which Kv is constant, select the data values associated with the calibration point with the lowest absolute venturi inlet pressure. With this set of calibration data, calculated the following CFV pressure ratio limit, Prratio-lim:

Where:

Pin-cal = Venturi inlet pressure (PPI in absolute pressure units), and

Pout-cal = Venturi outlet pressure (PPO in absolute pressure units), measured at the exit of the venturi diffuser outlet.

(B) The venturi pressure ratio (Prratio-i) during all emissions tests must be less than, or equal to, the calibration pressure ratio limit (Prratio-lim) derived from the CFV calibration data, such that:

Where:

Pin-i and Pout-i are the venturi inlet and outlet pressures, in absolute pressure units, at each i-th interval during the emissions test.

(ii) Option 2. Other methods: With prior Administrator approval, any other method may be used that assure that the venturi operates at sonic conditions during emissions tests, provided the method is based upon sound engineering principles.

* * * * *

Subpart N—[Amended]

4. Section 86.1313-98 is amended by revising Table N98-2 in paragraph (b)(2) to read as follows:

§ 86.1313-98 Fuel specifications.

* * * * *

(b)(2) * * *

Table.—N 98-2
Item |  | ASTM test method No. | Type 1-D | Type 2-D
Cetane Number |  | D 613 | 40-54 | 40-50
Cetane Index |  | D 976 | 40-54 | 40-50
Distillation range:
IBP | °F | D 86 | 330-390 | 340-400
| (°C) |  | (165.6-198.9) | (171.1-204.4)
10 pct. point | °F | D 86 | 370-430 | 400-460
| (°C) |  | (187.8-221.1) | (204.4-237.8)
50 pct. point | °F | D 86 | 410-480 | 470-540
| (°C) |  | (210.0-248.9) | (243.3-282.2)
90 pct. point | °F | D 86 | 460-520 | 560-630
| (°C) |  | (237.8-271-1) | (293.3-332.2)
EP | °F | D 86 | 500-560 | 610-690
| (°C) |  | (260.0-293.3) | (321.1-365.6)
Gravity | °API | D 287 | 40-44 | 32-37
Total sulfur | pct. | D 2622 | 0.03-0.05 | 0.03-0.05
Hydrocarbon composition:
Aromatics, minimum | pct. | D 5186 | 8 | 27
Paraffins, Naphthenes, Olefins |  | D 1319 | ¹ | ¹
Flashpoint, min. | °F | D 93 | 120 | 130
| (°C) |  | (48.9) | (54.4)
Viscosity | centistokes | D 445 | 1.6-2.0 | 2.0-3.2
¹ Remainder.

* * * * *

5. Section 86.1319-90 is amended by revising paragraph (d)(3) and adding paragraph (d)(8) to read as follows:

§ 86.1319-90 CVS calibration.

* * * * *

(d) * * *

(3) Measurements necessary for flow calibration are as follows:

Calibration Data Measurements
Parameter | Symbol | Units | Sensor-readout tolerances
Barometric pressure (corrected) | Pb | in Hg (kPa) | ±.01 in Hg (±.034 kPa).
Air temperature, into flowmeter | ETI | °F (°C) | ±0.5 °F (±.28 °C).
Pressure drop between the inlet and throat of metering venturi | EDP | Inches H2O (kPa) | ±0.05 in H2O (±.012 kPa).
Air flow | Qs | Ft³/min. (m³/min) | ±.5 % of NBS “true” value.
CFV inlet depression | PPI | Inches fluid (kPa) | ±.13 in fluid (±.055 kPa).
CFV outlet pressure | PPO | Inches Hg (kPa) | ±.05 in Hg (±.17 kPa) ¹.
Temperature at venturi inlet | Tv | °F (°C) | ±4.0 °F (±2.22 °C).
Specific gravity of manometer fluid (1.75 oil) | Sp. Gr
¹ Requirement begins August 20, 2001.

* * * * *

(8) Calculation of a parameter for monitoring sonic flow in the CFV during exhaust emissions tests:

(i) Option 1. (A) CFV pressure ratio. Based upon the calibration data selected to meet the criteria for paragraphs (d)(7)(iv) and (v) of this section, in which Kv is constant, select the data values associated with the calibration point with the lowest absolute venturi inlet pressure. With this set of calibration data, calculated the following CFV pressure ratio limit, Prratio-lim:

Where:

Pin-cal = Venturi inlet pressure (PPI in absolute pressure units), and

Pout-cal = Venturi outlet pressure (PPO in absolute pressure units), measured at the exit of the venturi diffuser outlet.

(B) The venturi pressure ratio (Prratio-i) during all emissions tests must be less than, or equal to, the calibration pressure ratio limit (Prratio-lim) derived from the CFV calibration data, such that:

Where:

Pin-i and Pout-i are the venturi inlet and outlet pressures, in absolute pressure units, at each i-th interval during the emissions test.

(ii) Option 2. Other methods: With prior Administrator approval, any other method may be used that assure that the venturi operates at sonic conditions during emissions tests, provided the method is based upon sound engineering principles.

* * * * *

6. Section 86.1333-90 is amended by revising paragraph (d) to read as follows:

§ 86.1333-90 Transient test cycle generation.

* * * * *

(d) Idle Speed Enhancement Devices (e.g. cold idle, alternator idle, etc.). For an engine equipped with an idle speed enhancement device, the zero percent speed specified in the engine dynamometer schedules (appendix I (f)(1), (f)(2), or (f)(3) to this part) does not apply. The idle speed shall be the speed that results from the proper operation of the engine's idle speed enhancement device.

(1) During idle speed enhancement device operation, a manual transmission engine shall be allowed to idle at whatever speed is required to target a feedback torque equal to zero (using, for example, clutch disengagement, speed to torque control switching, software overrides, etc.) at those points in appendix I(f)(1), (f)(2), or (f)(3) to this part where both reference speed and reference torque are zero percent values. For each idle segment that is ten seconds or longer, the average feedback torque must be within ±10 ft-lbs of zero. To allow for transition, up to the first four seconds may be deleted from each idle segment calculation.

(2) During idle speed enhancement device operation, an automatic transmission engine shall be allowed to idle at whatever speed is required to target a feedback torque equal to CITT (see paragraph (e)(2) of this section for definition of CITT) at those points in appendix I(f)(1), (f)(2), or (f)(3) to this part where both reference speed and reference torque are zero percent values. For each idle segment that is ten seconds or longer, the average feedback torque must be within ±10 ft-lbs of CITT. To allow for transition, up to the first four seconds may be deleted from each idle segment calculation.

* * * * *

[FR Doc. 00-1091 Filed 2-17-00; 8:45 am]

BILLING CODE 6560-50-P